DEPARTMENT OF TRANSPORTATION

Federal Aviation Administration

14 CFR Part 39

[Docket No. FAA-2012-0864; Directorate Identifier 2011-NM-023-AD; Amendment 39-17496; AD 2013-13-08]

RIN 2120-AA64

Airworthiness Directives; The Boeing Company Airplanes

AGENCY: Federal Aviation Administration (FAA), DOT.

ACTION: Final rule.

SUMMARY: We are superseding an existing airworthiness directive (AD) for certain The Boeing Company Model 767 airplanes. That AD currently requires sealing certain fasteners and stiffeners in the fuel tank, changing certain wire bundle clamp configurations on the fuel tank walls, inspecting certain fasteners in the fuel tanks and determining the method of attachment of the vortex generators; and performing corrective actions if necessary. This new AD adds a general visual inspection for the presence of a polytetrafluoroethylene (TFE) sleeve at the clamp location on the rear spar, and installation of a TFE sleeve if necessary. This new AD also adds airplanes to the applicability. This AD was prompted by fuel system reviews conducted by the manufacturer, and the identification of another possible ignition source location. We are issuing this AD to prevent possible ignition sources in the auxiliary (center) fuel tank, main fuel tanks, and surge tanks caused by a wiring short or lightning strike, which could result in fuel tank explosions and consequent loss of the airplane.

DATES: This AD is effective August 20, 2013.

The Director of the Federal Register approved the incorporation by reference of certain publications listed in the AD as of August 20, 2013.

The Director of the Federal Register approved the incorporation by reference of certain other publications listed in this AD as of October 1, 2009 (76 FR 43621, August 27, 2009).

ADDRESSES: For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Rebel Nichols, Aerospace Engineer, Propulsion Branch, ANM-140S, FAA, Seattle Aircraft Certification Office, 1601 Lind Avenue SW., Renton, WA 98057-3356; phone: 425-917-6509; fax: 425-917-6590; email: rebel.nichols@faa.gov.

SUPPLEMENTARY INFORMATION:

Discussion

We issued a notice of proposed rulemaking (NPRM) to amend 14 CFR part 39 to supersede AD 2009-18-02, Amendment 39-15998 (74 FR 43621, August 27, 2009). AD 2009-18-02 applied to the specified products. The NPRM published in the Federal Register on September 6, 2012 (77 FR 54850). The NPRM proposed to continue to require sealing certain fasteners and stiffeners in the fuel tank, changing certain wire bundle clamp configurations on the fuel tank walls, inspecting certain fasteners in the fuel tanks and determining the method of attachment of the vortex generators; and performing corrective action if necessary. The NPRM also proposed to require a general visual inspection for the presence of a polytetrafluoroethylene (TFE) sleeve at the clamp location on the rear spar, and installation of a TFE sleeve if necessary. The NPRM also proposed to add airplanes to the applicability.

Comments

We gave the public the opportunity to participate in developing this AD. The following presents the comments received on the proposal (77 FR 54850, September 6, 2012) and the FAA's response to each comment.

United Airlines stated that it has no comment for the NPRM (77 FR 54850, September 6, 2012).

Request to Change Acronym

Boeing requested that we change the NPRM (77 FR 54850, September 6, 2012) to correct an acronym from “TFE” to “PTFE.” Boeing stated that the proper acronym for polytetrafluoroethylene is “PTFE.”

We disagree with changing the acronym in this AD. The service information required by this AD refers to polytetrafluoroethylene as “TFE” throughout; therefore, to reduce the potential for confusion, we have not changed the acronym “TFE” in this AD.

Request for Credit

Air New Zealand requested that we allow credit for prior incorporation of Boeing Service Bulletin 767-57A0102, Revision 3, dated December 2, 2010, for the requirements of paragraph (j) of the NPRM (77 FR 54850, September 6, 2012).

We agree with the request, but provide the following clarification. Paragraph (j) of this AD specifies the compliance time for certain airplanes to accomplish the actions of paragraph (h) of this AD. We have changed the heading for paragraph (j) of this AD to focus on the compliance time. Paragraph (h) of this AD specifies to do the actions in accordance with Boeing Service Bulletins 767-57A0102, Revision 01, dated November 27, 2007; or Revision 4, dated September 20, 2011. Since paragraph (l)(2) of this AD gives credit for Boeing Service Bulletin 767-57A0102, Revision 3, dated December 2, 2010, for accomplishing the actions in paragraph (h) of this AD, we have not changed the AD in this regard.

STC Winglet Comment

Aviation Partners Boeing and Air New Zealand stated that the installation of winglets per STC ST01920SE (http://rgl.faa.gov/Regulatory_and_Guidance_Library/rgstc.nsf/0/59027F43B9A7486E86257B1D006591EE?OpenDocument&Highlight=st01920se) does not affect the accomplishment of the manufacturer's service instructions.

We have added paragraph (c)(2) to this AD to state that installation of STC ST01920SE does not affect the ability to accomplish the actions required by this AD. Therefore, for airplanes on which STC ST01920SE is installed, a “change in product” alternative method of compliance (AMOC) approval request is not necessary to comply with the requirements of 14 CFR 39.17. For all other AMOC requests, the operator must request approval for an AMOC in accordance with the procedures specified in paragraph (m) of this AD.

Conclusion

We reviewed the relevant data, considered the comments received, and determined that air safety and the public interest require adopting this AD with the change described previously and minor editorial changes. We have determined that these minor changes:

• Are consistent with the intent that was proposed in the NPRM (77 FR 54850, September 6, 2012) for correcting the unsafe condition; and

• Do not add any additional burden upon the public than was already proposed in the NPRM (77 FR 54850, September 6, 2012).

We also determined that these changes will not increase the economic burden on any operator or increase the scope of this AD.

Costs of Compliance

We estimate that this AD affects 414 airplanes of U.S. registry.

We estimate the following costs to comply with this AD:

Estimated Costs
Action | Labor cost | Parts cost | Cost per product | Number of U.S.-registered airplanes | Cost on U.S. operators
Group 1—Seal ends of fasteners—Boeing Service Bulletin 767-57A0100 (retained actions from AD 2009-18-02, Amendment 39-15998 (74 FR 43621, August 27, 2009)) | 6 work-hours × $85 per hour = $510 | $0 | $510 | 367 | $187,170
Group 2—Seal ends of fasteners—Boeing Service Bulletin 767-57A0100 (retained actions from AD 2009-18-02, Amendment 39-15998 (74 FR 43621, August 27, 2009)) | 114 work-hours × $85 per hour = $9,690 | 0 | 9,690 | 37 | 358,530
Group 3—Inspection—Boeing Service Bulletin 767-57A0100 (retained actions from AD 2009-18-02, Amendment 39-15998 (74 FR 43621, August 27, 2009)) | 1 work-hour × $85 per hour = $85 | 0 | 85 | 9 | 765
Group 1—Change wire bundle clamp configurations, Boeing Service Bulletin 767-57A0102 (retained actions from AD 2009-18-02, Amendment 39-15998 (74 FR 43621, August 27, 2009)) | 250 work-hours × $85 per hour = $21,250 | 1,632 | 22,882 | 376 | 8,603,632
Group 2—Change wire bundle clamp configurations, Boeing Service Bulletin 767-57A0102 (retained actions from AD 2009-18-02, Amendment 39-15998 (74 FR 43621, August 27, 2009)) | 874 work-hours × $85 per hour = $74,290 | 1,304 | 75,594 | 37 | 2,796,978
Group 3—Change wire bundle clamp configuration and seal fasteners, Boeing Service Bulletin 767-57A0102 (retained actions from AD 2009-18-02, Amendment 39-15998 (74 FR 43621, August 27, 2009)) | 26 work-hours × $85 per hour = $2,210 | 338 | 2,548 | 1 | 2,548
All airplanes—Inspection (new action) | 1 work-hour × $85 per hour = $85 | 0 | 85 | 414 | 35,190

We estimate the following costs to do any necessary repair that would be required based on the results of the inspection. We have no way of determining the number of aircraft that might need this repair:

On-Condition Costs
Action | Labor cost | Parts cost | Cost per product
Seal ends of fasteners—Boeing Service Bulletin 767-57A0100 (retained actions from AD 2009-18-02, Amendment 39-15998 (74 FR 43621, August 27, 2009)) | 6 work-hours × $85 per hour = $510 | $0 | Up to $510.
Installation of TFE sleeve—Boeing Service Bulletin 767-57A0102 | 1 work-hour × $85 per hour = $85 | $0 | $85.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-18-02, Amendment 39-15998 (74 FR 43621, August 27, 2009), and adding the following new AD:

2013-13-08 The Boeing Company: Amendment 39-17496; Docket No. FAA-2012-0864; Directorate Identifier 2011-NM-023-AD.

(a) Effective Date

This airworthiness directive (AD) is effective August 20, 2013.

(b) Affected ADs

This AD supersedes AD 2009-18-02, Amendment 39-15998 (74 FR 43621, August 27, 2009).

(c) Applicability

(1) This AD applies to The Boeing Company Model 767-200, -300, -300F, and -400ER series airplanes; certificated in any category; as identified in Boeing Service Bulletin 767-57A0100, Revision 3, dated July 28, 2011; and Boeing Service Bulletin 767-57A0102, Revision 4, dated September 20, 2011.

(2) Installation of Supplemental Type Certificate (STC) ST01920SE (http://rgl.faa.gov/Regulatory_and_Guidance_Library/rgstc.nsf/0/59027F43B9A7486E86257B1D006591EE?OpenDocument&Highlight=st01920se) does not affect the ability to accomplish the actions required by this AD. Therefore, for airplanes on which STC ST01920SE is installed, a “change in product” alternative method of compliance (AMOC) approval request is not necessary to comply with the requirements of 14 CFR 39.17.

(d) Subject

Joint Aircraft System Component (JASC)/Air Transport Association (ATA) of America Code 57, Wings.

(e) Unsafe Condition

This AD was prompted by fuel system reviews conducted by the manufacturer. We are issuing this AD to prevent possible ignition sources in the auxiliary (center) fuel tank, main fuel tanks, and surge tanks caused by a wiring short or lightning strike, which could result in fuel tank explosions and consequent loss of the airplane.

(f) Compliance

Comply with this AD within the compliance times specified, unless already done.

(g) Retained Fastener Sealant Application

This paragraph restates the requirements of paragraph (f) of AD 2009-18-02, Amendment 39-15998 (74 FR 43621, August 27, 2009), with revised service information. For airplanes identified in Boeing Service Bulletin 767-57A0100, Revision 01, dated June 19, 2008: Within 60 months after October 1, 2009 (the effective date of AD 2009-18-02), do the actions in paragraph (g)(1) or (g)(2) of this AD, as applicable, in accordance with the Accomplishment Instructions of Boeing Service Bulletin 767-57A0100, Revision 01, dated June 19, 2008; or Boeing Service Bulletin 767-57A0100, Revision 3, dated July 28, 2011. As of the effective date of this AD, only Boeing Service Bulletin 767-57A0100, Revision 3, dated July 28, 2011, may be used to accomplish the requirements of this paragraph.

(1) For Groups 1 and 2 airplanes: Seal the ends of the fasteners on the brackets that hold the vortex generators, and seal the ends of the fasteners on certain stiffeners on the rear spar, as applicable.

(2) For Group 3 airplanes: Do a detailed inspection to determine the method of attachment of the vortex generators and, before further flight, do all applicable specified corrective actions.

(h) Retained Wire Bundle Sleeve and Clamp Installation and Fastener Sealant Application

This paragraph restates the requirements of paragraph (g) of AD 2009-18-02, Amendment 39-15998 (74 FR 43621, August 27, 2009), with revised service information. For airplanes identified in Boeing Service Bulletin 767-57A0102, Revision 01, dated November 27, 2007: Within 60 months after October 1, 2009 (the effective date of AD 2009-18-02), do the actions specified in paragraphs (h)(1), (h)(2), and (h)(3) of this AD, as applicable, in accordance with the Accomplishment Instructions of Boeing Service Bulletin 767-57A0102, Revision 01, dated November 27, 2007; or Boeing Service Bulletin 767-57A0102, Revision 4, dated September 20, 2011. As of the effective date of this AD, only Boeing Service Bulletin 767-57A0102, Revision 4, dated September 20, 2011, may be used to accomplish the actions required by this paragraph.

(1) Change the wire bundle clamp configurations at specified locations on the fuel tank walls.

(2) Seal the fasteners and certain stiffeners at specified locations in the fuel tank.

(3) Do a detailed inspection of the sealant of the fasteners in the auxiliary tank center bay and rib 28 of the left and right main fuel tanks. Seal any unsealed fasteners before further flight.

(i) Definition

This paragraph restates the information specified in Note 1 of AD 2009-18-02, Amendment 39-15998 (74 FR 43621, August 27, 2009). For the purposes of this AD, a detailed inspection is: An intensive examination of a specific item, installation, or assembly to detect damage, failure, or irregularity. Available lighting is normally supplemented with a direct source of good lighting at an intensity deemed appropriate. Inspection aids such as mirror, magnifying lenses, etc., may be necessary. Surface cleaning and elaborate procedures may be required.

(j) Compliance Time for New Wire Bundle Sleeve and Clamp Installation and Fastener Sealant Application for Newly Added Airplanes

For airplanes identified in Boeing Service Bulletin 767-57A0102, Revision 4, dated September 20, 2011, but not identified in paragraph (h) of this AD: Do the actions required by paragraph (h) of this AD within 60 months after the effective date of this AD.

(k) New Inspection and Sleeve Installation

For airplanes identified as Groups 1 and 2 in Boeing Service Bulletin 767-57A0102, Revision 4, dated September 20, 2011: Within 60 months after the effective date of this AD, do a general visual inspection of the clamp location on the rear spar to determine whether a polytetrafluoroethylene (TFE) sleeve is installed between the clamp and the plastic convoluted tube, in accordance with Work Package 13 of the Accomplishment Instructions of Boeing Service Bulletin 767-57A0102, Revision 4, dated September 20, 2011.

(1) If a TFE sleeve is not installed between the clamp and the plastic convoluted tubing, before further flight, install a TFE sleeve, in accordance with the Accomplishment Instructions of Boeing Service Bulletin 767-57A0102, Revision 4, dated September 20, 2011.

(2) If a TFE sleeve is installed between the clamp and the plastic convoluted tubing, no more work is required by this paragraph.

(l) Credit for Previous Actions

(1) This paragraph provides credit for the actions required by paragraph (g) of this AD, if those actions were performed before the effective date of this AD using Boeing Service Bulletin 767-57A0100, dated August 21, 2006, which is not incorporated by reference in this AD; Revision 1, dated June 19, 2008; or Revision 2, dated May 20, 2010, which is not incorporated by reference in this AD.

(2) This paragraph provides credit for the actions required by paragraph (h) of this AD, if those actions were performed before the effective date of this AD using Boeing Service Bulletin 767-57A0102, Revision 1, dated November 27, 2007; Revision 2, dated January 7, 2010, which is not incorporated by reference in this AD; or Revision 3, dated December 2, 2010, which is not incorporated by reference in this AD.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2009-18-02, Amendment 39-15998 (74 FR 43621, August 27, 2009), are approved as AMOCs for the corresponding provisions of this AD.

(n) Related Information

(1) For more information about this AD, contact Rebel Nichols, Aerospace Engineer, Propulsion Branch, ANM-140S, FAA, Seattle Aircraft Certification Office, 1601 Lind Avenue SW., Renton, WA 98057-3356; phone: 425-917-6509; fax: 425-917-6590; email: rebel.nichols@faa.gov.

(2) Service information identified in this AD that is not incorporated by reference may be obtained at the address specified in paragraph (o)(5) of this AD. For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on August 20, 2013.

(i) Boeing Service Bulletin 767-57A0100, Revision 3, dated July 28, 2011.

(ii) Boeing Service Bulletin 767-57A0102, Revision 4, dated September 20, 2011.

(4) The following service information was approved for IBR on October 1, 2009, (74 FR 43621, August 27, 2009).

(i) Boeing Service Bulletin 767-57A0100, Revision 01, dated June 19, 2008.

(ii) Boeing Service Bulletin 767-57A0102, Revision 01, dated November 27, 2007.

(5) For service information identified in this AD, contact Boeing Commercial Airplanes, Attention: Data & Services Management, P. O. Box 3707, MC 2H-65, Seattle, WA 98124-2207; telephone 206-544-5000, extension 1; fax 206-766-5680; Internet https://www.myboeingfleet.com.

(6) You may view this service information at FAA, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on June 13, 2013.
Jeffrey E. Duven,
Acting Manager, Transport Airplane Directorate, Aircraft Certification Service.

[FR Doc. 2013-15526 Filed 7-15-13; 8:45 am]

BILLING CODE 4910-13-P